DEPARTMENT OF AGRICULTURE

Agricultural Marketing Service

[Document Number AMS-FV-14-0101, FV-15-331]

United States Standards for Grades of Pecans

AGENCY: Agricultural Marketing Service, USDA.

ACTION: Notice.

SUMMARY: The Agricultural Marketing Service (AMS) of the Department of Agriculture (USDA) proposes to revise the United States Standards for Grades of Shelled Pecans and the United States Standards for Grades of Pecans in the Shell. AMS is proposing to replace the term “midget” with “extra small” in the Shelled Pecan standards. AMS is also proposing to remove from both standards references to plastic models of pecan kernels, and information on where the color standards may be examined. These changes would modernize the terminology and information in the standards.

DATES: Comments must be submitted on or before March 14, 2016.

ADDRESSES: Interested persons are invited to submit written comments to the Standardization Branch, Specialty Crops Inspection Division, Specialty Crops Program, Agricultural Marketing Service, U.S. Department of Agriculture, National Training and Development Center, Riverside Business Park, 100 Riverside Parkway, Suite 101, Fredericksburg, VA 22406; fax: (540) 361-1199, or on the Web at: www.regulations.gov. Comments should reference the dates and page number of this issue of the Federal Register, and will be made available for public inspection in the above office during regular business hours. Comments can also be viewed as submitted, including any personal information you provide, on the www.regulations.gov Web site.

FOR FURTHER INFORMATION CONTACT: Contact Lindsay H. Mitchell at the address above, or by phone (540) 361-1120; fax (540) 361-1199; or, email lindsay.mitchell@ams.usda.gov. Copies of the proposed U.S. Standards for Grades of Shelled Pecans and the U.S. Standards for Grades of Pecans in the Shell are available on the Internet at http://www.regulations.gov. Copies of the current U.S. Standards for Grades of Shelled Pecans and the U.S. Standards for Grades of Pecans in the Shell are available from the Specialty Crops Inspection Division Web site at http://www.ams.usda.gov/grades-standards/nuts.

SUPPLEMENTARY INFORMATION: Section 203(c) (7 U.S.C. 1622(c)) of the Agricultural Marketing Act of 1946 (7 U.S.C. 1621-1627) as amended, directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official standards available upon request. The U.S. Standards for Grades of Fruits and Vegetables that no longer appear in the Code of Federal Regulations are maintained by USDA, AMS, Specialty Crops Program at the following Web site: http://www.ams.usda.gov/grades-standards. AMS is proposing revisions to these U.S. Standards for Grades using the procedures in part 36 of Title 7 of the Code of Federal Regulations (7 CFR part 36).

Background

AMS is reviewing fruit and vegetable grade standards to assess their effectiveness for the industry and to modernize language. In addition, on May 13, 2013, AMS received a petition from the Little People of America that stated that the group is “trying to raise awareness around and eliminate the use of the word midget.” The petition further stated that, “Though the use of the word midget by the USDA when classifying certain food products is benign, Little People of America, and the dwarfism community, hopes that the USDA would consider phasing out the term midget.” Five grade standards contain the term “midget”: U.S. Standards for Grades of Canned Lima Beans, U.S. Standards for Grades of Canned Mushrooms, U.S. Standards for Grades of Pickles, U.S. Standards for Grades of Processed Raisins, and U.S. Standards for Grades of Shelled Pecans. The standards for canned lima beans, canned mushrooms, pickles, and processed raisins will be covered in a separate notice and rule due to additional changes being made to those specific standards.

Prior to developing the proposed revisions to the pecan grade standards, AMS solicited comments and suggestions about the standards from the National Pecan Shellers Association (NPSA). The NPSA recommended replacing the term “midget” with “extra small.”

AMS is proposing to address the use of “midget” in the Shelled Pecan standards by replacing the term with “extra small” everywhere that it appears. AMS also is proposing to remove the paragraph from both the Shelled and In Shell standards that reference plastic models that are no longer produced, (§ 51.1436(b) and § 51.1403(b), respectively), and make minor editorial changes.

The proposed revisions would modernize the language in the grade standards. This notice provides a 60-day period for interested parties to comment on the proposed revisions to the standards.

Authority: 7 U.S.C. 1621-1627.

Dated: January 7, 2016.
Rex A. Barnes,
Associate Administrator, Agricultural Marketing Service.

[FR Doc. 2016-00439 Filed 1-11-16; 8:45 am]

BILLING CODE 3410-02-P